NATIONAL SCIENCE FOUNDATION

Sunshine Act Meeting

Agency Holding Meeting: National Science Foundation, National Science Board and its Subdivisions.

Date and Time:

November 19, 2003: 8 a.m.-5 p.m.

Concurrent Sessions:

8 a.m.-9:45 a.m. Open Session.

9:45 a.m.-10 a.m. Closed Session.

8:30 a.m.-10 a.m. Open Session.

10 a.m.-12 noon Open Session.

12:30 p.m.-1:10 p.m. Open Session.

1:10 p.m.-1:30 p.m. Closed Session.

1:30 p.m.-4:00 p.m. Open Session.

4 p.m.-4:30 p.m. Open Session.

4:30 p.m.-5 p.m. Closed Session.

October 16, 2003: 8:30 a.m.-3 p.m.

Concurrent Sessions:

8:30 a.m.-9:20 a.m. Closed Session.

9:20 a.m.-10:45 a.m. Open Session.

11 a.m.-12 noon Closed Session.

12:15 p.m.-3 p.m. Open Session.

Place: The National Science Foundation, 4201 Wilson Boulevard, Arlington, VA 22230, www.nsf.gov/nsb.

Contact for Information: NSF Information Center (703) 292-5111.

Status: Part of this meeting will be closed to the public. Part of this meeting will be open to the public.

Matters To Be Considered:

Wednesday, November 19, 2003

Open

Committee on Audit and Oversight (8 a.m.-9:45 a.m.), Room 1235

• Minutes

• FY 2003 Financial Statement Audit

• CFO Update—FY 2003 Performance & Accountability Report

• OIG Semiannual Report

• Briefing on Committee on Science, Research Business Models Subcommittee

Subcommittee on S&E Indicators (8:30 a.m.-10 a.m.), Room 1295

• Approval of Minutes

• S&E Indicators 2004 Cover

• S&E Indicators 2004 Companion Piece

Committee on Strategy and Budget (10 a.m.-12 Noon), Room 1235

• Approval of Minutes

• Review of Draft Report (required by Section 22 of the NSF Authorization Act)

• Discussion of Future Agenda Items

Subcommittee on Polar Issues (12:30 p.m.-1:15 p.m.), Room 1235

• Introduction

• Approval of Minutes

• OPP Director's Report:

• OPP and U.S. Polar Science: Inter- and Intra-Agency Interactions And Cooperation

• NSF Roles and Responsibilities

—U.S. Antarctic Program

—U.S. Arctic Research

Committee on Education and Human Resources (1:30 p.m.-4 p.m.), Room 1235

• Approval of Minutes

• Comments from the Chair

• NWP Update

• CEOSE and the Diversity Workshop (Oct. 23-24)

• Report from Subcommittee on S&E Indicators

• Workforce for 21st Century Priority Area Update

• Report from the EHR AD: Coordination of Education Across NSF

• New Business

Executive Committee (4 p.m.-4:30 p.m.), Room 1295

• Minutes

Closed

Audit & Oversight (9:45 a.m.-10:00 a.m.), Room 1235

• Briefing on an Active Investigation

Executive Committee (4:30 p.m.-5 p.m.), Room 1295

• Member Proposal

• Director's Items

—Specific Personnel Items

—Future Budgets

Thursday, November 20, 2003

Open

Committee on Programs and Plans (9:20 a.m.-10:45 a.m.), Room 1235

• Information Item: Status of the Atacama Large Millimeter Array Project (ALMA)

• Minutes/Announcements

• Long-Lived Data Collections: Status Report

• High Risk Research

• Polar Subcommittee

Plenary Session of the Board (12:15 p.m.-3 p.m.), Room 1235

• Minutes

• Closed Items, February 2004

• Director's Items

• Chairman's Items, including

—February 2004 Meeting

• Committee Reports, including

—High Risk Research

—LLDC Workshop

—Media Event for NWP Report

• NSB Election Protocol Discussion

Closed

Committee on Programs and Plans (8:30 a.m.-9:20 a.m.), Room 1235

• Closed Minutes

• Award Actions

—Office of Polar Programs

—Division of Electrical and Communications Systems

Plenary Session of the Board (11 a.m.-12 p.m.), Room 1235

• Closed Minutes

• Closed Committee Reports, including

—Award Action: Office of Polar Programs

—Award Action: Division of Electrical and Communications Systems

—Member Proposal

Michael P. Crosby,
Executive Officer, NSE.

[FR Doc. 03-28642 Filed 11-12-03; 3:42 pm]

BILLING CODE 7555-01-M